DEPARTMENT OF THE INTERIOR

National Park Service

[NPS-WASO-NAGPRA-NPS0036131; PPWOCRADN0-PCU00RP14.R50000]

Notice of Intent To Repatriate Cultural Items: James B. and Rosalyn L. Pick Museum of Anthropology at Northern Illinois University, DeKalb, IL (Formerly Anthropology Museum at Northern Illinois University)

AGENCY: National Park Service, Interior.

ACTION: Notice.

SUMMARY: In accordance with the Native American Graves Protection and Repatriation Act (NAGPRA), the James B. and Rosalyn L. Pick Museum of Anthropology at Northern Illinois University (Pick Museum) intends to repatriate certain cultural items that meet the definition of sacred objects and that have a cultural affiliation with the Indian Tribes or Native Hawaiian organizations in this notice.

DATES: Repatriation of the cultural items in this notice may occur on or after August 7, 2023.

ADDRESSES: Dr. Christy DeLair, Museum Director, James B. and Rosalyn L. Pick Museum of Anthropology at Northern Illinois University, 1425 W Lincoln Hwy, DeKalb, IL 60015, telephone (815) 753-0230, email cdelair@niu.edu.

SUPPLEMENTARY INFORMATION: This notice is published as part of the National Park Service's administrative responsibilities under NAGPRA. The determinations in this notice are the sole responsibility of the James B. and Rosalyn L. Pick Museum of Anthropology at Northern Illinois University. The National Park Service is not responsible for the determinations in this notice. Additional information on the determinations in this notice, including the results of consultation, can be found in the summary or related records held by the James B. and Rosalyn L. Pick Museum of Anthropology at Northern Illinois University.

Description

In 1977, the Pick Museum purchased 10 false face protectors from the Cahokia Mounds Museum Society, which had purchased them from Iroqrafts, an indigenous arts and crafts outlet located on the Six Nations of the Grand River. Pick Museum records indicate that the maker was Hôwe'drangwus (“He Keeps Ice”) from the Wolf Clan of the Cayuga of the Six Nations of the Grand River, based on the original Iroqrafts' tags that came with each protector. Nandell Hill, the current owner of Iroqrafts, and whose father was the owner of Iroqrafts when the protectors were sold to Cahokia, confirmed Hôwe'drangwus (also known as Mark Sky) was a member of the Wolf Clan of the Cayuga Nation of the Six Nations of the Grand River, and also stated she was a relation of Hôwe'drangwus. Likewise, Miran Hill, the Keeper of all wampum belts, funeral remains, masks, and ceremonial items for the Six Nations of the Grand River, who knew Hôwe'drangwus, confirmed he was from the Six Nations of the Grand River. The 10 false face protectors are sacred objects.

In 1981, the Pick Museum purchased three false face masks from Desert House Crafts in Tucson, Arizona. Pick Museum records indicate the artist was doChAn'dre (“Breaking Daylight,” also known as Gene Thomas), a member of the Wolf Clan of the Onondaga of the Six Nations of the Grand River. His father, Hadaje'grenta (“Flying Cloud,” also known as Jake Thomas) was a chief and member of the Snipe Clan of the Cayuga of the Six Nations of the Grand River. Nandell Hill, the current owner of Iroqrafts, provided the clan membership and English names of doChAn'dre (“Breaking Daylight”) and his father Hadaje'grenta (“Flying Cloud”). Likewise, Miran Hill, the Keeper of all wampum belts, funeral remains, masks, and ceremonial items for the Six Nations of the Grand River, who knew doChAn'dre (“Breaking Daylight”) and his father Hadaje'grenta (“Flying Cloud”), confirmed they were from the Six Nations of the Grand River. The three false face masks are sacred objects.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: anthropological, geographical, historical, oral traditional, kinship, and expert opinion.

Determinations

Pursuant to NAGPRA and its implementing regulations, and after consultation with the appropriate Indian Tribes and Native Hawaiian organizations, the James B. and Rosalyn L. Pick Museum of Anthropology at Northern Illinois University has determined that:

• The 13 cultural items described above are specific ceremonial objects needed by traditional Native American religious leaders for the practice of traditional Native American religions by their present-day adherents.

• There is a relationship of shared group identity that can be reasonably traced between the cultural items and the Onondaga Nation.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 7, 2023. If competing requests for repatriation are received, the James B. and Rosalyn L. Pick Museum of Anthropology at Northern Illinois University must determine the most appropriate requestor prior to repatriation. Requests for joint repatriation of the cultural items are considered a single request and not competing requests. The James B. and Rosalyn L. Pick Museum of Anthropology at Northern Illinois University is responsible for sending a copy of this notice to the Indian Tribe identified in this notice.

Authority: Native American Graves Protection and Repatriation Act, 25 U.S.C. 3003, and the implementing regulations, 43 CFR 10.8, 10.10, and 10.14.

Dated: June 28, 2023.
Melanie O'Brien,
Manager, National NAGPRA Program.

[FR Doc. 2023-14386 Filed 7-6-23; 8:45 am]

BILLING CODE 4312-52-P